DEPARTMENT OF THE INTERIOR

National Park Service

[NPS-WASO-NRNHL-1111-8829; 2200-3200-665]

National Register of Historic Places; Notification of Pending Nominations and Related Actions

Nominations for the following properties being considered for listing or related actions in the National Register were received by the National Park Service before October 29, 2011. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, (202) 371-6447. Written or faxed comments should be submitted by December 6, 2011. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CALIFORNIA

Alameda County

Livermore Carnegie Library and Park, (California Carnegie Libraries MPS) 2155 3rd St., Livermore, 11000876

COLORADO

Routt County

Steamboat Apartments, 302 11th St., Steamboat Springs, 11000877

DELAWARE

Sussex County

Robbins, David, Homestead, 26285 Broadkill Rd., Milton, 11000878

GEORGIA

Stephens County

Toccoa Downtown Historic District, Roughly bounded by Alexander, Currahee, Hill, & Savannah Sts., Toccoa, 11000879

GUAM

Guam County

Agat World War II Amtrac, Address Restricted, Agat, 11000880

MARYLAND

Prince George's County

Broad Creek Historic District, Bounded by Oxon Hill Rd., MD 210, Livingston Rd. & Potomac R., Fort Washington, 11000881

Washington County

Plumb Grove, 12654 Broadfording Rd., Clear Spring, 11000882

MASSACHUSETTS

Norfolk County

Stetson Hall, 6 S. Main St., Randolph, 11000883

NEBRASKA

Butler County

Butler County District No. 10 School, (School Buildings in Nebraska MPS) 2030 Cty. Rd. 45 1/2, Linwood, 11000884

Chase County

Pinkie's Corner, Address Restricted, Imperial, 11000885

Deuel County

Menter Farmstead, 1270 North Fork Rd., Big Springs, 11000886

Douglas County

Thiessen, H., Pickle Company, 3101 S. 24th St., Omaha, 11000887

NORTH CAROLINA

Brunswick County

New Hope Presbyterian Church, 800 Cherrytree Rd. NE., Winnabow, 11000888

Gaston County

City Hospital—Gaston Memorial Hospital, 401-405 N. Highland St., 810 Mauney Ave., Gastonia, 11000889

Polk County

Sunnydale, 334 S. Trade St., Tryon, 11000890

Randolph County

Asheboro Hosiery Mills and Cranford Furniture Company Complex, 133 & 139 S. Church St., 230 W. Academy Sts., Asheboro, 11000891

Wake County

Arndt, G. Dewey and Elma, House, 1428 Canterbury Rd., Raleigh, 11000892

Rochester Heights Historic District, (Post-World War II and Modern Architecture in Raleigh, North Carolina 1945-1965 MPS) Roughly bounded by Bailey Dr., Boaz Rd., Calloway Dr. & Garner Rd., Raleigh, 11000893

OKLAHOMA

Craig County

Carselowey House, 403 N. Gunter, Vinita, 11000894

Tulsa County

Blue Dome Historic District, (Route 66 and Associated Resources in Oklahoma AD MPS) Roughly between S. Kenosha & S. Detroit Aves., Frisco RR tracks, & E. 8th St., Tulsa, 11000895

Sophian Plaza, 1500 S. Frisco Ave., W., Tulsa, 11000896

TEXAS

Hidalgo County

Valley Fruit Company, 724 N. Cage Blvd., Pharr, 11000897

A request for removal has been made for the following resource:

OREGON

Clackamas County

Ertz, Charles W., House 1650 North Shore Rd., Lake Oswego, 92000081

[FR Doc. 2011-29949 Filed 11-18-11; 8:45 am]

BILLING CODE 4312-51-P